DEPARTMENT OF DEFENSE

Department of the Army

Availability for Non-Exclusive, Exclusive, or Partially Exclusive Licensing of U.S. Patents and U.S. Patent Application Concerning Method for Predicting Human Cognitive Performance

AGENCY: Department of the Army, DOD.

ACTION: Notice.

SUMMARY: In accordance with 37 CFR 404.6 and 404.7, announcement is made of the availability for licensing of the following: U.S. Patent No. 6,419,629 entitled “Method for Predicting Human Cognitive Performance,” issued July 16, 2002; U.S. Patent No. 6,241,686 entitled “System and Method for Predicting Human Cognitive Performance Using data from an Actigraph,” issued June 5, 2001; and U.S. Patent Application No. 09/848,352 entitled “Method and System for Predicting Human Cognitive Performance”, filed May 4, 2001. The United States Government, as represented by the Secretary of the Army has rights in these inventions.

ADDRESSES: Commander, U.S. Army Medical Research and Materiel Command, ATTN: Command Judge Advocate, MCMR-JR, 504 Scott Street, Fort Detrick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: An apparatus and method for predicting cognitive performance of an individual based on factors including sleep history and the time of day. The method facilities the creation of predicted cognitive performance curves that allow an individual to set his/her sleep times to produce higher levels of cognitive performance. The method also facilities the reconstruction of past cognitive performance levels based on sleep history.

Luz D. Ortiz,
Army Federal Register Liaison Officer.

[FR Doc. 02-23003 Filed 9-9-02; 8:45 am]

BILLING CODE 3710-08-M